DEPARTMENT OF THE INTERIOR

Bureau of Land Management

[CACA-48497, NVN-82673, LLCAD00000 L51010000 ER0000 LVRWB09B2310]

Notice of Availability of the Record of Decision for the DesertXpress Enterprises, LLC High-Speed Passenger Train Project

AGENCY: Bureau of Land Management, Interior.

ACTION: Notice of availability.

SUMMARY: The Bureau of Land Management (BLM) announces the availability of the Record of Decision (ROD) for the DesertXpress Enterprises, LLC High-Speed Passenger Train Project (DesertXpress Project) located in San Bernadino County, California, and Clark County, Nevada. The BLM California State Director signed the ROD on October 31, 2011, which constitutes the final decision of the BLM. The ROD sets forth BLM's decision to issue a right-of-way (ROW) grant to DesertXpress Enterprises, LLC to construct, operate, maintain, and terminate a railroad on approximately 1,022 acres of public land in San Bernardino County, California, and Clark County, Nevada.

ADDRESSES: Copies of the ROD have been sent to affected Federal, state and local government agencies and to other stakeholders and are available at the following locations:

• Barstow Field Office, 2601 Barstow Road, Barstow, CA 92311.

• Needles Field Office, 1303 S. Highway 95, Needles, CA 92363.

• Las Vegas Field Office, 4701 North Torrey Pines Drive, Las Vegas, NV 89130.

The ROD is also available at the following Web site: http://www.ca.blm.gov/barstow.

FOR FURTHER INFORMATION CONTACT: Rich Rotte, Project Lead, telephone (760) 252-6026; address BLM-Barstow Field Office, 2601 Barstow Road, Barstow, California 92311; email rrotte@blm.gov. Persons who use a telecommunications device for the deaf may call the Federal Information Relay Service (FIRS) at 1-(800) 877-8339 to contact the above individual during normal business hours. The FIRS is available 24 hours a day, 7 days a week, to leave a message or question with the above individual. You will receive a reply during normal business hours.

SUPPLEMENTARY INFORMATION: DesertXpress Enterprises, LLC filed an application under Title V of the Federal Land Policy and Management Act (43 U.S.C. 1761) (FLPMA) for a ROW authorization on BLM-managed lands to build an Electrical Multiple Unit (EMU) high-speed passenger rail line in compliance with the FLPMA, BLM ROW regulations, and other applicable Federal laws. The railway would extend approximately 200 miles from Victorville, California, to Las Vegas, Nevada. When completed, this project will impact approximately 972 acres of public land. Additionally, 50 acres of public land will be temporarily impacted during construction. The project also includes stations in Victorville and Las Vegas, with associated operations, maintenance, and storage facilities.

The Federal Railway Administration (FRA) was the lead agency for the environmental review of this project. The BLM participated as a cooperating agency. A Notice of Availability of the Final Environmental Impact Statement (EIS) was published in the Federal Register by the FRA on April 1, 2011. The FRA signed a ROD on July 8, 2011, approving construction of the DesertXpress Project, which is available online at http://www.fra.dot.gov/rpd/freight/1703.shtml.

The preferred alternative was selected jointly by the BLM and the FRA in the Final EIS. The FRA and BLM both selected this alternative and approved it in their respective RODs. In the preferred alternative, the ROW will allow the tracks to be located within or immediately adjacent to the ROW for the Interstate-15 (I-15) freeway. Between Mountain Pass, California, and Primm, Nevada, the tracks will leave the I-15 ROW and travel through new tunnels in the mountains northwest of I-15, then overland until rejoining the I-15 ROW near Primm.

The BLM has adopted all reasonable mitigation measures recommended in the Final EIS regarding public lands. The project area is managed by the BLM in accordance with the California Desert Conservation Area Plan and the Las Vegas Field Office Resource Management Plan. The Preferred Alternative is consistent with both of these plans.

Any party adversely affected by BLM's decision may appeal within 30 days of the date of this notice pursuant to 43 CFR part 4, subpart E. The appeal should state the specific portions of the BLM's decision that is being appealed. The appeal must be filed with the California State Director at 2800 Cottage Way, Sacramento, CA 95825. According to regulation, BLM decisions issued under 43 CFR part 2800 are and remain in effect pending appeal. (43 CFR 2801.10(b)). Please consult the appropriate regulations (43 CFR part 4, subpart E) for further requirements.

Authority: 40 CFR 1506.6.

James W. Keeler,
Acting Deputy State Director.

[FR Doc. 2011-29787 Filed 11-16-11; 8:45 am]

BILLING CODE 4310-40-P